DEPARTMENT OF AGRICULTURE

Forest Service

Admiralty National Monument: Tongass National Forest; Alaska; Expansion of Tailings Disposal Facility, Greens Creek Mine Environmental Impact Statement

AGENCY: Forest Service, USDA.

ACTION: Notice of Intent To Prepare an Environmental Impact Statement.

SUMMARY: The U.S. Department of Agriculture, Forest Service, will prepare an Environmental Impact Statement (EIS) to consider the proposal to create additional tailings and waste rock disposal capacity and related infrastructure at the Greens Creek Mine on northern Admiralty Island on the Admiralty Island National Monument, Tongass National Forest. The proposed action provides for an expansion of the existing tailings facility area to the south for an increase of approximately 200 acres. This would include an increase of about 60 acres for tailings placement and an addition of approximately 140 acres for supporting infrastructure.

DATES: A scoping letter will be mailed out in early October. Individuals who want to receive a copy of this mailing or who want to be on the project mailing list should contact the Admiralty Island National Monument at the address below. Comments concerning the scope of the analysis must be received by November 4, 2010. The Draft EIS is projected to be filed with the Environmental Protection Agency (EPA) in the summer of 2011 and will begin a 45 day public comment period. The Final Environmental Impact Statement and the Record of Decision are expected to be published in the spring of 2012.

ADDRESSES: You may comment on the project in the following ways: Send written comments to the Admiralty Island National Monument, Tongass National Forest, Attn: Greens Creek Tailings Expansion, 8510 Mendenhall Loop Road, Juneau, AK 99801. Hand delivered comments may be taken to this same address. Comments may also be sent via e-mail to comments-alaska-tongass-admiralty-national-monument@fs.fed.us with Greens Creek Tailings EIS on the subject line, or via facsimile to 907-586-8808. Include your name, address and organization name if you are commenting as a representative of an organization.

FOR FURTHER INFORMATION CONTACT: Questions about the proposal and the EIS should be directed to Chad VanOrmer, District Ranger, Admiralty Island National Monument, 8510 Mendenhall Loop Road, Juneau, AK 99801, telephone (907) 789-6202, or Sarah Samuelson, Interdisciplinary Team Leader, Tongass National Forest Minerals Program Leader, 8510 Mendenhall Loop Road, Juneau, AK 99801, telephone (907) 789-6274. Individuals who use telecommunication devices for the deaf (TDD) may call the Federal Information Relay Service (FIRS) at 1-800-877-8339 between 8 a.m. and 8 p.m., Eastern Time, Monday through Friday.

SUPPLEMENTARY INFORMATION:

Background

Hecla Greens Creek Mining Company (HGCMC) operates an underground polymetallic mine located approximately 18 miles southwest of Juneau, Alaska on the northern part of Admiralty Island in Southeast Alaska. Exploration work at the site began in the mid-1970s, with the first exploration portal to go underground started in 1981. Before mining operations began the Forest Service completed a Greens Creek Final Environmental Impact Statement (1983) and Record of Decision for overall development and operations of the mine. Full scale mine development began in 1987.

The original General Plan of Operations (GPO) called for underground mining with the ore crushed and concentrated in the mill near the portal. The tailings were to be slurried in a pipeline parallel to the road corridor to a disposal site at the Cannery Muskeg. In 1986 the new owners of the mine (Amselco) decided to change the method of tailings disposal; instead of transporting tailings in a slurry via a pipeline, the owners proposed to truck “dry tailings” to a smaller area at the same Cannery Muskeg for disposal. In 1988, the Forest Service completed the Environmental Assessment for Proposed Changes to the General Plan of Operation for the Development and Operation of the Greens Creek Mine (1988) and approved the dry-stack tailings method for the Greens Creek Mine.

In 1990 new mine owners (Kennecott Greens Creek Mining Company—KGCMC) sought approval for additional waste rock disposal capacity. In 1991, the Forest Service began a third National Environmental Policy Act (NEPA) review, the Environmental Assessment for Additional Waste Rock Disposal Capacity at Greens Creek Mine (1992).

In 2001, KGCMC submitted an application to the Forest Service requesting a modification of the then-current GPO for expansion of the existing tailings facility. Based on known ore reserves and the success of the exploration program, it was estimated that the approved tailings facility could not contain tailings associated with projected future operations. In 2003, the Greens Creek Tailings Disposal Final Environmental Impact Statement (2003) and ROD were completed; this provided for a modification of the GPO to allow for an expansion of the tailings disposal facility.

Purpose and Need for Action

The Forest Service has been requested by HGCMC to consider additional tailings expansion at the Greens Creek Mine. With continued positive exploration results, improved metal prices, and ongoing operational efficiencies, there is a need for additional tailings and waste rock disposal and related infrastructure at the Greens Creek Mine to allow for continuous site operations in a safe, environmentally sound, technically feasible, and economically viable manner, while being in compliance with regulatory requirements. The purpose of this EIS is for the Forest Service to consider certain changes to the approved HGCMC General Plan of Operations regarding tailings and waste rock disposal and related infrastructure. The existing tailings facility is considered sufficient to provide for HGCMC needs until 2014 but HECLA has indicated that preparation work for tailings must begin during the 2012 construction season.

Proposed Action

HGCMC is proposing a tailings expansion which will accommodate an estimated additional 20 million tons of tailings and waste rock material. This volume would allow capacity for ongoing operation and project reserves, plus provide volume for waste rock co-disposal and an expanded resource base as identified needs are proven with on-site exploration activities. An estimated 200 additional acres are requested to accommodate this expansion need; approximately 60 acres will accommodate the tailings and waste rock co-disposal and about 140 acres to provide space for supporting infrastructure.

Public Participation and Scoping

This project was placed on the July 2010 Schedule of Proposed Action. This Notice of Intent initiates the scoping process which guides the development of the EIS. Public participation will be an integral component of the study process and will continue to be especially important at several points during the analysis. The Forest Service will be seeking information, comments and assistance from tribal governments and corporations, Federal, State and local agencies, individuals, and organizations that may be interested in, or affected by, the proposed activities. The mailing list will include: Those who have requested to be on this project mailing list, outfitters/guides that have permits within or adjacent to this area; and local, State and federally-recognized tribal governments and corporations and federal government agencies. The scoping package will be available at future public open house meetings to be held in mid-October in both Juneau, Alaska and Angoon, Alaska.

Based on results of scoping and the resource capabilities within the project area, alternatives, including the “No Action” alternative will be developed for the Draft EIS. Subsistence hearings, as provided for in Section 810 of the Alaska National Interest Lands Conservation Act (ANILCA) will be conducted, if necessary, during the comment period on the Draft EIS.

The comment period on the Draft EIS will be 45 days from the date the EPA publishes the notice of availability in the Federal Register. It is important that reviewers provide their comments at such times and in such a way that they are useful to the Agency's preparation of the Final EIS. Comments on both scoping and eventually, the Draft EIS, should be provided prior to the close of the comment period and should clearly articulate the reviewers concerns and contentions. The submission of timely and specific comments can affect a reviewer's ability to participate in a subsequent administrative review or judicial review. Comments received in response to this solicitation, including names and addresses of those who comment, will be part of the public record for this proposed action (Authority: 40 CFR 1501.7 and 1508.22; 36 CFR 220.5; also Forest Service Handbook 1909.15, Section 21). Comments submitted anonymously will not provide the respondent with standing to participate in subsequent administrative review or judicial review. Additionally, pursuant to 7 CFR 1.27(d), any person may request the agency to withhold a submission from the public record by showing how the Freedom of Information Act (FOIA) permits such confidentiality. Requesters should be aware that, under FOIA, confidentiality may be granted in only very limited circumstances, such as to protect trade secrets. The Forest Service will inform the requester of the agency's decision regarding the request for confidentiality, where the request is denied, the Forest Service will return the submission and notify the requester that the comments may be resubmitted with or without name and address within 7 days.

To assist the Forest Service in identifying and considering issues and concerns of the proposed action, comments during the scoping and comments on the Draft EIS should be as specific as possible. It is also helpful if comments refer to specific pages or chapters of the Draft EIS. Comments may also address the adequacy of the Draft EIS or the merits of the alternatives formulated and discussed in the statement. Reviewers may wish to refer to the Council on Environmental Quality Regulations for implementing the procedural provisions of NEPA at 40 CFR 1503.3 in addressing these points.

Lead and Cooperating Agencies

The Forest Service is the lead agency for this environmental analysis. The following agencies have agreed to participate as cooperating agencies:

• U.S. Army Corps of Engineers.

• U.S. Environmental Protection Agency.

• State of Alaska—lead by the Office of Project Management and Permitting.

• The City and Borough of Juneau.

Responsible Official

Forrest Cole, Forest Supervisor, Tongass National Forest, Federal Building, Ketchikan, Alaska 99901 is the responsible official.

Nature of Decision To Be Made

The Forest Supervisor is the responsible official for this action and will decide whether or not to amend the approved GPO. The decision will be based on information that is disclosed in the Final EIS. The responsible official will consider the comments, responses, disclosure of environmental consequences, and applicable laws, regulations, and policies in making the decision and state the rationale in the Record of Decision.

Preliminary Issues

Tentative issues identified for the analysis in the EIS includes the potential long-term effects on water quality as a result of the project expansion; both during operation and after closure. A second issue involves how the proposed expansion area in and adjacent to the National Monument boundary may affect the “Monument values” including wetlands, habitat, and the intrinsic characteristics that warranted the Monument's initial establishment.

Permits or Licenses Required

Permits required for implementation include the following:

1. U.S. Army Corps of Engineers

• Clean Water Act (CWA) Section 404 wetlands permit for the discharge of dredge or fill material into waters of the United States, including jurisdictional wetlands.

2. U.S. Environmental Protection Agency

• Review Spill Prevention Control and Countermeasure Plan.

3. State of Alaska, Department of Natural Resources

• Reclamation Plan Approval.

• State water rights permits for water withdrawals.

4. Office of Project Management & Permitting (DNR)

• Coastal Zone Consistency Determination under the Coastal Zone Management Act and the Alaska Coastal Management Program Act of 1977.

5. State of Alaska, Department of Environmental Conservation

• Waste Management Permit covering disposal of mine tailings, waste rock, overburden, and solid waste, management of ground water, storage and containment of hazardous chemicals, facility reclamation and facility closure.

• Air Quality Permit to Operate (Title V).

• CWA Section 401 certifications of reasonable assurance for COE/Section 404 permit.

• Alaska National Pollution Discharge Elimination System Permit.

6. Alaska Department of Fish and Game

• Fish habitat permits for diversions and water withdrawals.

Dated: September 27, 2010.
Forrest Cole,
Forest Supervisor.

[FR Doc. 2010-24907 Filed 10-4-10; 8:45 am]

BILLING CODE 3410-11-P